DEPARTMENT OF JUSTICE

Antitrust Division

Notice Pursuant to the National Cooperative Research and Production Act of 1993—National Cyberspace Consortium

Notice is hereby given that, on December 3, 2015, pursuant to Section 6(a) of the National Cooperative Research and Production Act of 1993, 15 U.S.C. 4301 et seq. (“the Act”), National Cyberspace Consortium (“NCC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Advanced Nuclear Devices Corporation, Hilton Head Island, SC; Alabama A&M University—RISE Foundation, Huntsville, AL; Alabama A&M University College of Engineering, Technology, and Physical Sciences, Huntsville, AL; Aleta Technologies, Inc., Madison, AL; ALION Science & Technology, McLean, VA; Altron, Inc., Mount Pleasant, SC; Alutiiq Business Services, LLC, North Charleston, SC; AMSEC LLC, Virginia Beach, VA; Auburn Research & Development Institute, Auburn, AL; Auburn University, Montgomery, AL; Binera, Inc., Yorktown, PA; Centurum Information Technology, Inc., North Charleston, SC; CGI Federal, Inc., Huntsville, AL; CKQ Technologies LLC, Charleston, SC; Clear Ridge Defense, LLC, Hanover, MD; Cognitio Corp., McLean, VA; deciBel Research, Huntsville, AL; Defense Engineering Services LLC, Daniel Island, SC; Deloitte & Touche LLP, Alexandria, VA; DESE Research, Inc., Huntsville, AL; Dilks—Simone Enterprises, Inc., Mount Pleasant, SC; Dispersive Technologies, Inc., Alpharetta, SC; Dynetics, Inc., Huntsville, AL; Emergent, Inc., North Charleston, SC; Enlogica Solutions, LLC, Huntsville, AL; Enterprise Integration, Inc., Huntsville, AL; EnVention LLC, Huntsville, AL; EOIR Technologies, Inc., Fredericksburg, VA; EpiQ, Inc., Huntsville, AL; Exodus Technology Corporation, Huntsville, AL; Forager Systems, Inc., Charleston, SC; GeoWireless Inc., North Charleston, SC; GPH Consulting, LLC., Charleston, SC; Honeywell Technology Solutions, Inc., North Charleston, SC; Imagine One, Hanahan, SC; Insight Through Analysis, LLC, McLean, VA; Integrated Technology Services, LLC, Summerville, SC; IronMountain Solutions, Huntsville, AL; IT Security, Inc., Pittsburgh, PA; Jacobs, Huntsville, AL; JB Management, Inc., Alexandria, VA; Lewis Innovative Technologies, Inc., Decatur, AL; LSINC Corporation, Huntsville, AL; Mission Multiplier Consulting, Huntsville, AL; Modulant, Inc., North Charleston, SC; Modus21, Mount Pleasant, SC; Network Security Systems Plus, Inc., Falls Church, VA; Northrop Grumman Corporation—Huntsville, Huntsville, AL; nou Systems, Inc., Huntsville, AL; On-Line Applications Research Corporation, Huntsville, AL; Open Source Systems, LLC, Charleston, SC; ORBIS Sibro, Inc. (dba ORBIS), Mount Pleasant, SC; Peregrine Technical Solutions, Yorktown, VA; Pillar Global Solutions, Inc., Stafford, VA; Prime Technical Services, Inc., Atlanta, GA; PROJECTXYZ, Inc., Huntsville, AL; ProModel Corporation, Allentown, PA; Quantam Dynamics, Macon, GA; Recorded Future, Charleston, SC; Rollout Systems LLC, California, MD; Science Applications International Corporation, McLean, VA; Sea Island Technical Service LLC, Charleston, SC; Secturion Systems, Inc., Clearfield, UT; SiloSmashers, Inc., Herndon, VA; Soteria LLC, Lorton, VA; South Central Tennessee Development, Mount Pleasant, TN; STIMULUS Engineering Services, Inc., Loogootee, IN; Systems Technology Forum, Ltd., Charleston, SC; The University of Alabama, Tuscaloosa, AL; Trideum Corporation, Huntsville, AL; Trinary Software, Ashland, OR; University of Alabama—Huntsville, Huntsville, AL; University of South Carolina, Columbia, SC; VarnerMiller, LLC, Mount Pleasant, SC; ViON Corporation, Herndon, VA.

The general area of NCC's planned activity is to assist in maturing Army Cyberspace Operations through re-use and augmenting existing cyber technologies and fostering relevant cyber weapons systems and awareness in the newly established Cyber domain.

Patricia A. Brink,
Director of Civil Enforcement, Antitrust Division.

[FR Doc. 2016-01259 Filed 1-21-16; 8:45 am]

BILLING CODE P